DEPARTMENT OF DEFENSE

Office of the Secretary

[Docket ID: DoD-2020-OS-0083]

Privacy Act of 1974; System of Records

AGENCY: Office of the Secretary, Department of Defense (DoD).

ACTION: Notice of a modified system of records.

SUMMARY: The Office of the Secretary of Defense (OSD) is modifying the system of records notice (SORN), “Military OneSource (MOS) Case Management System (CMS),” DPR 45 DoD. The Military OneSource is a call center and website providing comprehensive information on available benefits and services to Active Duty Military, Reserve and National Guard, eligible separated members and their families. These benefits and services include financial counseling, educational assistance and benefits, relocation planning and preparation, quality of life programs, and family and community programs. In addition to the formatting administrative changes, this modification expands the categories of individuals and records covered by the system of records.

DATES: This system of records modification is effective upon publication; however, comments on the Routine Uses will be accepted on or before October 23, 2020. The Routine Uses are effective at the close of the comment period.

ADDRESSES: You may submit comments, identified by docket number and title, by any of the following methods:

* Federal Rulemaking Portal: https://www.regulations.gov.

Follow the instructions for submitting comments.

* Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Lyn Kirby, Defense Privacy, Civil Liberties, and Transparency Division, Directorate for Oversight and Compliance, Department of Defense, 4800 Mark Center Drive, Mailbox #24, Suite 08D09, Alexandria, VA 22350-1700; OSD.DPCLTD@mail.mil; (703) 571-0070.

SUPPLEMENTARY INFORMATION: The MOS provides service members and their families with access to a wide variety of resources and confidential support in order to weather the demands of military life. In an increasingly technological and mobile world, the MOS offers support 24 hours a day, telephonically as well as online.

The DoD notices for systems of records subject to the Privacy Act of 1974, as amended, have been published in the Federal Register and are available from the address in FOR FURTHER INFORMATION CONTACTor at the Defense Privacy, Civil Liberties, and Transparency Division website at https://dpcld.defense.gov.

In accordance with 5 U.S.C. 552a(r) and Office of Management and Budget (OMB) Circular No. A-108, the DoD has provided a report of this system of records to the OMB and to Congress.

Dated: September 16, 2020.
Aaron T. Siegel,
Alternate OSD Federal Register Liaison Officer, Department of Defense.

SYSTEM NAME AND NUMBER:

Military OneSource (MOS) Case Management System (CMS), DPR 45 DoD.

SECURITY CLASSIFICATION:

Unclassified.

SYSTEM LOCATION:

DISA DECC Oklahoma City, 8705 Industrial Blvd., Building 3900, Tinker AFB, OK 73145-3336.

SYSTEM MANAGER(S):

Director, Military Community Support Programs, Military Community and Family Policy, 4800 Mark Center Drive, Suite 14E08, Alexandria, VA 22350-2300, email: osd.pentagon.ousd-p-r.mbx.mcfp-nmc@mail.mil.

AUTHORITY FOR MAINTENANCE OF THE SYSTEM:

10 U.S.C. 136, Under Secretary of Defense for Personnel and Readiness; 10 U.S.C. 1781 note, Establishment of Online Resources To Provide Information About Benefits and Services Available to Members of the Armed Forces and Their Families; Directive-type Memorandum (DTM)-17-004, DoD Civilian Expeditionary Workforce; DoD Directive 1322.18, Military Training; DoD Instruction (DoDI) 1342.22, Military Family Readiness; DoDI 6490.06, Counseling Services for DoD Military, Guard and Reserve, Certain Affiliated Personnel, and Their Family Members; and DoDI 1322.26, Distributed Learning (DL).

PURPOSE(S) OF THE SYSTEM:

The MOS CMS allows the documentation of an individual's eligibility; identification of the caller's inquiry or issue to provide a warm hand-off, referral and/or requested information; the development towards a final solution and referral information. The system also processes training registration, enrollment requests, and self-motivated education/training for its Learning Management System (LMS). Records may be used as a management tool for statistical analysis, tracking, reporting, and evaluating program effectiveness and conducting research. Information on individuals posing a threat to themselves or others will be reported to the appropriate authorities in accordance with DoD/Military Branch of Service and Component regulations and established protocols.

CATEGORIES OF INDIVIDUALS COVERED BY THE SYSTEM:

Active Duty Service members; Reserve and National Guard members; members of the Coast Guard activated as part of the Department of the Navy under Title 10 authority; medically discharged Service members participating in one of the Services Wounded Warrior or Seriously Ill and Injured Programs; those with honorable, other than honorable and general (under honorable conditions) discharges (includes retirees and those on the Temporary Disability Retirement List); Reserved Officer Training Course and Service Academy Cadets; DoD Civilians Expeditionary Workforce Personnel; immediate family members of the groups described above; individuals with a legal responsibility to care for service member's children acting for the benefit of the children; survivors of deceased Service members contacting Military OneSource seeking information, referrals, or non-medical counseling; service providers accessing the LMS.

CATEGORIES OF RECORDS IN THE SYSTEM:

Individual's full name, date of birth, gender, marital status, relationship to service member, rank, unit, branch of military service, military status, current address and mailing address, telephone numbers (work/home/cell/DSN) and participant authorization or refusal to allow incoming/outgoing text messages between participant and Military OneSource, email address, participant ID and case number (automatically generated internal numbers not provided to the participant), presenting issue/information requested, handoff type to contractor, handoff notes, if interpretation is requested and the language, referrals, and feedback from quality assurance follow-up with participants.

Online Learning Platform: User account name, course history (attempted dates/times, grades), member type, agency, installation, unit, and service provider affiliation.

Non-medical counseling information: Psychosocial history, assessment of personal concerns, provider name, phone number, and location, authorization number, and outcome summary.

RECORD SOURCE CATEGORIES:

The individual, Military OneSource program officials, Transition Assistance Program (TAP) Data Retrieval Web Service (TDRWS) and authorized contractors providing advice and support to the individual.

ROUTINE USES OF RECORDS MAINTAINED IN THE SYSTEM, INCLUDING CATEGORIES OF USERS AND PURPOSES OF SUCH USES:

In addition to those disclosures generally permitted under 5 U.S.C. 552a(b) of the Privacy Act of 1974, as amended, these records may specifically be disclosed outside the DoD as a routine use pursuant to 5 U.S.C 552a(b)(3) as follows:

a. To contractors, grantees, experts, consultants, students, and others performing or working on a contract, service, grant, cooperative agreement, research studies concerning effectiveness of non-medical counseling interventions or other assignment for the federal government when necessary to accomplish an agency function related to this system of records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines the records are relevant and necessary to the proceeding; or in an appropriate proceeding before an administrative or adjudicative body when the adjudicator determines the records to be relevant to the proceeding.

e. To the National Archives and Records Administration for the purpose of records management inspections conducted under the authority of 44 U.S.C. 2904 and 2906.

f. To a Member of Congress or staff acting upon the Member's behalf when the Member or staff requests the information on behalf of, and at the request of, the individual who is the subject of the record.

g. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Electronic storage media.

POLICIES AND PRACTICES FOR RETRIEVAL OF RECORDS:

Information is retrieved by the participant's or service members name, date of birth, participant ID, case ID, DoD ID number, phone number, email address, or a LMS account username.

POLICIES AND PRACTICES FOR RETENTION AND DISPOSAL OF RECORDS:

Master database files: Cut off after 3 years of continuous inactivity or notification of discharge, retirement or separation of the service member. Destroy 10 years after cut off.

Non-medical counseling records: Cut off after 3 years of continuous inactivity or notification of discharge, retirement or separation of the service member. Destroy 15 years after cut off.

Training records: Cut off annually upon completion of training. Destroy 5 years after cut off.

Call center recordings: Cut off after referral to non-medical counseling, employee assistance program support, information and referral. Destroy 90 days after cut off.

ADMINISTRATIVE, TECHNICAL, AND PHYSICAL SAFEGUARDS:

Military OneSource CMS is hosted on a certified and accredited infrastructure. Records are maintained in a secure building in a controlled area accessible only to authorized personnel. Physical entry is restricted by the use of locks, passwords, and administrative procedures, which are changed periodically. The system is designed with access controls, comprehensive intrusion detection, and virus protection. Access to personally identifiable information in this system is role-based and restricted to those requiring the data in the performance of their official duties and completing annual information assurance and privacy training. Records are encrypted during transmission to protect session information, and while not in use (data at rest).

RECORDS ACCESS PROCEDURES:

Individuals seeking access to information about themselves or their minor legal dependent(s) in this record system should address inquiries in writing to the Office of the Secretary of Defense/Joint Staff Freedom of Information Act Requester Service Center, 1155 Defense Pentagon, Washington, DC 20301-1155. Signed, written requests should include the individual's full name (First, Middle, Last), all other names used, current address, telephone number, email address, date of birth (YYYYMMDD), and the name and number of this system of records notice (SORN). In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

If for legal minor dependent:

“I declare (or certify, verify, or state) under penalty of perjury under the laws of the United States of America that the foregoing is true and correct. I have the legal responsibility to care for the minor child/children of a service member.”

Print Full Name of Child (First, Middle, Last) and Date of Birth (YYYYMMDD), (if multiple children, please submit separate request(s) for each:

“Executed on (date). (Signature of Requester (Parent/Legal Guardian 1)).”

“Executed on (date). (Signature of Requester (Parent/Legal Guardian 2)).”

CONTESTING RECORD PROCEDURES:

The DoD rules for accessing records, contesting contents, and appealing initial agency determinations are contained in 32 CFR part 310, or may be obtained from the system manager.

NOTIFICATION PROCEDURES:

Individuals seeking to determine if information about themselves is contained in this record system should address inquiries in writing to the appropriate system manager. Signed, written requests should include the individual's full name (First, Middle, Last), all other names ever used, current address, telephone number, email address, date of birth (YYYYMMDD), and the name and number of this SORN. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

If for legal minor dependent(s):

“I declare (or certify, verify, or state) under penalty of perjury under the laws of the United States of America that the foregoing is true and correct. I have the legal responsibility to care for the minor child/children of a service member.”

Print Full Name of Child (First, Middle, Last) and Date of Birth (YYYYMMDD), (if multiple children, please submit separate request(s)) for each:

“Executed on (date). (Signature of Requester (Parent/Legal Guardian 1)).”

“Executed on (date). (Signature of Requester (Parent/Legal Guardian 2)).”

EXEMPTIONS PROMULGATED FOR THE SYSTEM:

None.

HISTORY:

January 24, 2017, 82 FR 8182, February 11, 2015, 80 FR 7579, October 15, 2014, 79 FR 61854.

[FR Doc. 2020-21017 Filed 9-22-20; 8:45 am]

BILLING CODE 5001-06-P